DEPARTMENT OF THE INTERIOR

National Park Service

Final Environmental Impact Statement; Prisoners Harbor Coastal Wetland Restoration Plan, Channel Islands National Park, Santa Barbara County, CA; Notice of Availability

SUMMARY: Pursuant to § 102(2)(C) of the National Environmental Policy Act of 1969, the National Park Service, Department of the Interior, has prepared a Final Environmental Impact Statement (EIS) assessing the potential impacts of restoring the coastal wetland and lower riparian corridor at Prisoners Harbor on Santa Cruz Island, Channel Island National Park. The Final EIS analyzes the effects of implementing proposed actions that accomplish the following objectives: (1) Recreate a more natural topography and hydrology by reconnecting the Canada del Puerto stream with its floodplain and removing non-native eucalyptus trees and other vegetation which have proliferated in the lower drainage; (2) increase biological diversity and productivity by removing fill and restoring the historic wetland; (3) provide an enhanced visitor experience by installing additional interpretive displays; and (4) protect significant cultural and historic resources.

Range of Alternatives: After identifying foreseeable environmental issues with the proposed restoration activities, conducting a site visit, and undertaking public scoping, the Park began developing alternatives for the area of potential effect. The Park assessed feasible extents of area of restored wetlands and considered several project scenarios.

Alternative A (no action) and two action alternatives were identified and analyzed.

Alternative B (⅔ Wetland Restoration with Partial Berm Removal) (agency-preferred alternative) involves removing approximately 15,000 cubic yards of fill from the former wetland and restoring 3.1 acres of wetland, removing all cattle corrals, removing a portion of the berm and replanting the site with native plants, protecting the archeological site, removing eucalyptus from the riparian corridor, controlling other invasive plant species, and improving the visitor experience. Under supervision of park cultural resource specialists and after further consultation with the State Historic Preservation Office, the scale house would be partially dismantled, lifted off its current foundation, and reassembled and stabilized on a new foundation in its pre-1960's location. To mitigate the loss of the existing cattle corral complex and other associated features, the Park will build a corral structure similar to the sheep corrals in photos dated c. 1900. The corrals will be adjacent to the warehouse, extending toward the pier and parallel to the row of eucalyptus trees at the base of the cliff, and enclosing the relocated scale house. Design and materials will be determined by NPS cultural resource specialists during the design phase of the project.

Alternative C (⅓ Wetland Restoration with Partial Berm Removal) involves removing fill to restore 2.1 acres of wetland, removing six of eight cattle corrals, keeping the scale house in its present location, removing a portion of the berm, protecting the archeological site, removing eucalyptus from the riparian corridor, controlling other invasive plant species, and improving the visitor experience.

In general, the wetland restoration activities would begin with aggressively removing and disposing of known non-native invasive plants such as kikuyu grass, fennel, and eucalyptus. Removal and disposal techniques may include: Hand pulling or excavating by hand or mechanically; chain sawing; applying least-toxic herbicides; and/or burning or chipping plant residues. Next, old concrete foundations, corrals, posts, troughs, and other old features would be dismantled (and removed or reused where feasible). The Park then would remove approximately 250 feet of the low berm that severed the hydraulic connection between lower Canada del Puerto and its floodplain, excavate sand and rock fill to restore a portion of the buried wetlands, and replant the restored area with native wetland species. Work will be initiated in the late spring and completed in late summer or early fall when the wetland restoration area is in its driest condition, so that late-fall rains will initiate plant germination and growth after work is completed.

Riparian restoration in Canada del Puerto would take place in a two-pronged, step-wise approach. In an area of approximately 20 acres eucalyptus trees would be removed (1) from downstream to upstream, and (2) from the hillside toward the stream bank. Woody native vegetation including established oaks, island cherry, and coffee berry would remain. The eucalyptus would be replaced with native species typical of chaparral and island riparian woodland including oak, cottonwood, willow, and maple.

The Park proposes to protect high-value archeological resources at Prisoners Harbor from continuing (though lessened) exposure to stream flow erosion in Canada del Puerto by placement of a small earth, log, and cobble berm planted with native plants, thereby deflecting potential flood waters away from the culturally important area. The island gateway experience for visitors arriving at Prisoners Harbor will be enhanced by constructing temporary wayside exhibits, a wetland viewing bench, and/or interpretive signs.

SUPPLEMENTARY INFORMATION: A Notice of Intent to prepare an EIS was published in the Federal Register on June 11, 2008. The Draft EIS was made available on May 15, 2009. Nine written comments from interested individuals, agencies, and organizations including The Santa Cruz Island Foundation, The Nature Conservancy, Santa Barbara Channel Keepers, and the National Marine Sanctuary were received. Four individuals attending a June 23, 2009, open house at the Park Visitor Center provided oral commentary. Comment topics included visitor experience, historical resources, marine resources, vegetation removal, flood flows, and best management practices. All issues raised were duly considered in preparing the Final EIS.

The Final EIS is now available for public review. Printed and CD copies will be distributed, and are also available at park headquarters. Printed copies will be made available at E.P. Foster Library in Ventura and Central Library in Santa Barbara. A digital version will be available online at the Park Web site http://www.nps.gov/chis or the NPS Park Planning Web site at http://parkplanning.nps.gov. Inquiries regarding the Final EIS should be directed to: Superintendent, Channel Islands National Park, 1901 Spinnaker Drive, Ventura, CA 93001; or by telephone at (805) 658-5700.

Decision Process: A minimum 30-day no-action period begins with the Environmental Protection Agency's announcement of the publication and availability of the Final EIS, after which a Record of Decision may be prepared. As a delegated EIS, the Regional Director, Pacific West Region, is responsible for the final decision; subsequently the Superintendent, Channel Islands National Park, would be responsible for plan implementation and monitoring activities.

Dated: March 12, 2010.
Patricia L. Neubacher,
Acting Regional Director, Pacific West Region.

[FR Doc. 2010-9547 Filed 4-23-10; 8:45 am]

BILLING CODE 4310-F6-P